DEPARTMENT OF AGRICULTURE

Animal and Plant Health Inspection Service

[Docket No. APHIS-2018-0101]

Notice of Availability of an Environmental Assessment; Importation of Plants in Approved Growing Media Into the United States

AGENCY: Animal and Plant Health Inspection Service, USDA.

ACTION: Notice of availability; reopening of comment period.

SUMMARY: We are reopening the comment period for our draft programmatic environmental assessment for the importation of plants in approved growing media, which considers the potential environmental effects of a standardized set of pest risk mitigations for routine market requests to import plants in approved growing media. This action will allow interested persons additional time to prepare and submit comments.

DATES: The comment period for the notice published on April 10, 2019 (84 FR 14340) is reopened. We will consider all comments that we receive on or before June 24, 2019.

ADDRESSES: You may submit comments by either of the following methods:

• Federal eRulemaking Portal: Go to http://www.regulations.gov/#!docketDetail;D=APHIS-2018-0101.

• Postal Mail/Commercial Delivery: Send your comment to Docket No. APHIS-2018-0101, Regulatory Analysis and Development, PPD, APHIS, Station 3A-03.8, 4700 River Road, Unit 118, Riverdale, MD 20737-1238.

Supporting documents and any comments we receive on this docket may be viewed at http://www.regulations.gov/#!docketDetail;D=APHIS-2018-0101 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: Ms. Lydia E. Colón, Senior Regulatory Policy Specialist, Plant Health Programs, Plant Protection and Quarantine, Animal and Plant Health Inspection Service, 4700 River Road, Unit 133, Riverdale, MD 20737-1237; Lydia.E.Colon@usda.gov; (301) 851-2302.

SUPPLEMENTARY INFORMATION: On April 10, 2019, we published in the Federal Register (84 FR 14340, Docket No. APHIS-2018-0101) a notice of availability for our draft programmatic environmental assessment for the importation of plants in approved growing media, which considers the potential environmental effects of a standardized set of pest risk mitigations for routine market requests to import plants in approved growing media.

Comments on the notice were required to be received on or before May 10, 2019. We are reopening the comment period on Docket No. APHIS-2018-0101 for an additional 45 days. This action will allow interested persons additional time to prepare and submit comments.

We will also consider all comments received between May 11, 2019 (the day after the close of the original comment period) and the date of this notice.

Done in Washington, DC, this 4th day of June 2019.
Kevin Shea,
Administrator, Animal and Plant Health Inspection Service.

[FR Doc. 2019-12020 Filed 6-6-19; 8:45 am]

BILLING CODE 3410-34-P